FEDERAL MARITIME COMMISSION

Notice of Agreement Filed

The Commission hereby gives notice of the filing of the following agreement under the Shipping Act of 1984. Interested parties may submit comments on agreements to the Secretary, Federal Maritime Commission, Washington, DC 20573, within ten days of the date this notice appears in the Federal Register. Copies of agreements are available through the Commission's Office of Agreements (202-523-5793 or tradeanalysis@fmc.gov).

Agreement No.: 012013.

Title: MSC/COSCO Space Charter Agreement.

Parties: Mediterranean Shipping Co. S.A. (“MSC”) and COSCO Container Lines Company, Limited.

Filing Party: Wayne R. Rohde, Esq.; Sher & Blackwell LLP; 1850 M Street, NW.; Suite 900; Washington, DC 20036.

Synopsis: The agreement authorizes MSC to charter space to COSCO in the trade between U.S. Atlantic Coast ports and ports in Italy and Spain.

By Order of the Federal Maritime Commission.

Dated: August 24, 2007.
Karen V. Gregory,
Assistant Secretary.

[FR Doc. E7-17134 Filed 8-28-07; 8:45 am]

BILLING CODE 6730-01-P